SECURITIES AND EXCHANGE COMMISSION

Sunshine Act Meeting

Federal Register Citation of Previous Announcement: [71 FR 3906, January 24, 2006].

Status: Closed meeting.

Place: 100 F Street, NE., Washington, DC.

Date and Time of Previously Announced Meeting: Thursday, January 26, 2006 at 9 a.m.

Change in the Meeting: Additional items.

The following items have been added to the 9 a.m. Closed Meeting scheduled for Thursday, January 26, 2006:

Institution and settlement of injunctive actions; and

Institution and settlement of an administrative proceeding of an enforcement nature.

Commissioner Atkins, as duty officer, voted to consider these items listed for the closed meeting in closed session and that no earlier notice thereof was possible.

At times, changes in Commission priorities require alterations in the scheduling of meeting items. For further information and to ascertain what, if any, matters have been added, deleted or postponed, please contact the Office of the Secretary at (202) 551-5400.

Dated: January 25, 2006.
Nancy M. Morris,
Secretary.

[FR Doc. 06-878 Filed 1-26-06; 11:34 am]

BILLING CODE 8010-01-P